DEPARTMENT OF TRANSPORTATION

Federal Highway Administration

Environmental Impact Statements: National Summary of Rescinded Notices of Intent

AGENCY: Federal Highway Administration (FHWA), DOT.

ACTION: Notice.

SUMMARY: The FHWA is issuing this notice to advise the public that 15 States, including the District of Columbia, have rescinded Notices of Intent (NOIs) to prepare 20 Environmental Impact Statements (EISs) for proposed highway projects. The FHWA Division Offices, in consultation with the State Departments of Transportation (State DOTs), determined that nine projects were no longer viable and have formally cancelled the projects. No further Federal resources will be expended on these projects; the environmental review process has been terminated. Nine projects have been reduced in scope and now meet the criteria for an Environmental Assessment (EA) or a Categorical Exclusion (CE). One project is now proceeding as a corridor study. One project was rescinded as the FHWA is no longer the lead Federal agency for the project.

FOR FURTHER INFORMATION CONTACT: Bethaney Bacher-Gresock, Office of Project Development and Environmental Review, (202) 366-4196; Janet Myers, Office of the Chief Counsel, (202) 366-2019; Federal Highway Administration, 1200 New Jersey Avenue, SE., Washington, DC 20590.

SUPPLEMENTARY INFORMATION:

Electronic Access

An electronic copy of this document may be downloaded by accessing the Federal Register's home page at: http://www.archives.gov and the Government Printing Office's Web page at http://www.gpoaccess.gov/nara.

Background

The FHWA, as lead Federal agency under the National Environmental Policy Act (NEPA) and in furtherance of its oversight and stewardship responsibilities under the Federal-aid highway program, periodically requests that its Division Offices review, with the State DOTs, the status of all EISs and place those projects that are not actively progressing in a timely manner in an inactive project status. The FHWA maintains lists of active and inactive EIS projects on its Web site at http://www.environment.fhwa.dot.gov/. The FHWA has determined that inactive projects that are no longer a priority or that lack financial resources should be rescinded with a Federal Register notice notifying the public that project activity has been terminated. This notice covers the time period since the last summary was issued on May 14, 2009, and published in the Federal Register at 74 FR 25797 (May 29, 2009). As always, FHWA encourages State DOTs to work with their FHWA Division Office to determine when it is most prudent to initiate an EIS in order to best balance available resources as well as the expectations of the public.

The FHWA is issuing this notice to advise the public that 15 States (California, Colorado, District of Columbia, Florida, Iowa, Illinois, Maryland, Minnesota, Missouri, New Jersey, New York, Oregon, Tennessee, Texas, and Washington) have recently rescinded previously issued NOIs for 20 EISs for proposed highway projects. A listing of these projects, general location, original NOI date of publication in the Federal Register, and the date that the NOI was formally rescinded by notice published in the Federal Register, is provided below.

The FHWA Division Offices, in consultation with the State DOTs, determined that nine of these projects were no longer viable projects and have formally cancelled those projects. The projects are: The Gaming Area (SH 119 Corridor) project in Gilpin, Clear Creek, and Jefferson Counties, Colorado; County Road 951 project in Lee and Collier Counties, Florida; Lake County Illinois Transportation Improvement Project; Intersection of Route 213 and Nye School Road in Rock County, Wisconsin to the interchange of Rockton Road and I-90 in Winnebago, Illinois; University of Maryland Campus Study from I-95/I-495 and points north located in Prince George's County, Maryland; Jefferson County Missouri Transportation Improvements Project; Harmony Road, Clackamas County, Oregon; SH 35 Roadway between Bellfort Road and FM 1462 in Harris and Brazoria Counties, Texas; and the BNSF Railway Mainline Kelso-Martin's Bluff Rail Project (south of Kalama, Washington).

The FHWA Division Offices, in consultation with the State DOTs, determined that nine projects would be reduced in scope. In California, the I-805 Managed Lane South Project has been reduced in scope and now meets the criteria for an EA. The Klingle Road, N.W. project in the District of Columbia was rescoped and is now an EA focusing on environmental remediation and the development of a multiuse trail. In Maryland, the MD 4 from MD 2 to MD 235 (Thomas Johnson Memorial Bridge) in Calvert and St. Mary's Counties has been rescoped and now meets the criteria for an EA. In Minnesota, the Tier 1 EIS 33rd Street Corridor between TH 15 and TH 10 in Sherburne and Stearns Counties has been reduced in scope and now meets the criteria for an EA, other components could proceed at a later date. In Missouri, the U.S. Route 65 Relocation Project in Benton County has been reduced in scope as relocation of U.S. Route 65 is no longer being considered. Also in Missouri, the Route 47 Transportation System Improvements Project in Warren and Franklin Counties has been reduced in scope and only covers the bridge replacement. In New Jersey, the proposed South Branch Parkway project in Hunterdon County was reduced in scope as it was determined that key elements of the purpose and need may be met by making improvements to the existing Route 31. In New York, project scoping indicated that few highway improvements are required for the Route 531 Extension project Monroe County and those that are needed will be progressed as CEs. In Tennessee, the State Route 91 Improvements project in Elizabethton, Carter County, was reduced in scope to the transportation systems management and upgrades options to as new location alternatives could have significant adverse environmental impacts.

In addition, one project in Polk County, Iowa, the Tiered EIS Northeast Beltway Study, was rescinded due to scheduling and a lack of project funding; it is currently proceeding as a corridor study.

In addition, the FHWA Division Office, in consultation with the State DOT, rescinded one project because FHWA is no longer serving as the lead Federal agency. The San Ysidro Port of Entry project in San Diego County, California was redesigned and the General Services Agency is now the lead Federal agency. The FHWA is a cooperating agency.

State | Project name—location | NOI date | Rescinded date
CA | I-805 Managed Lane South Project—San Diego County | 7/11/2007 | 12/8/2009
CA | San Ysidro Port of Entry—San Diego County | 7/2/2003 | 12/22/2009
CO | Gaming Area EIS (SH 119 Corridor)—Gilpin, Clear Creek and Jefferson Counties | 8/11/2000 | 4/7/2010
DC | Klingle Road, N.W.—Washington, D.C. | 3/18/2004 | 6/7/2010
FL | County Road 951—Lee and Collier Counties | 6/27/2005 | 3/10/2010
IA | Tiered EIS Northeast Beltway Study—Polk County | 5/5/2006 and 6/1/2009 | 12/21/2009
IL | Lake County Transportation Improvement Project | 9/21/2001* | 10/23/2008
IL | Intersection of Route 213 and Nye School Road in WI to the interchange of Rockton Road and I-90 in IL—Rock County, WI to Winnebago County, IL | 10/26/1995 | 5/7/2010
MD | University of Maryland Campus Study from I95/I495 and points north—Prince George's County | 6/11/2008 | 6/3/2010
MD | MD 4 from MD 2 to MD 235 (Thomas Johnson Memorial Bridge)—Calvert and St. Mary's Counties | 10/22/2007 | 6/4/2010
MN | Tier I EIS—33rd Street Corridor between TH 15 and TH 10—Sherburne and Stearns Counties | 12/26/2002 | 1/7/2010
MO | US Route 65 Relocation Project—Benton County | 4/20/1994 | 2/27/2006
MO | Transportation Improvements Project—Jefferson County | 12/19/2007 | 6/29/2009
MO | Route 47 Transportation System Improvements—Warren and Franklin Counties | 4/22/2008 | 6/1/2010
NJ | South Branch Parkway—Hunterdon County | 11/24/2006 | 6/30/2009
NY | Route 531 Extension—Monroe County | 1/14/2005 | 6/21/2010
OR | Harmony Road—Clackamas County | 4/9/2007 | 4/5/2010
TN | State Route 91 Improvements in Elizabethton—Carter County | 2/2/2007 | 6/4/2010
TX | SH 35 Roadway between Bellfort Road and FM 1462—Harris and Brazoria Counties | 10/30/2003 | 3/3/2010
WA | BNSF Railway Mainline Kelso-Martin's Bluff Rail Project | 4/2/2001 | 7/20/2009
*Date of Draft EIS, original NOI date unknown.

(Catalog of Federal Domestic Assistance Program Number 20.205, Highway Planning and Construction. The regulations implementing Executive Order 12372 regarding intergovernmental consultation on Federal programs and activities apply to this program.)

Issued on: July 6, 2010.
Gregory N. Nadeau,
Deputy Administrator.

[FR Doc. 2010-18318 Filed 7-26-10; 8:45 am]

BILLING CODE 4910-22-P